DEPARTMENT OF JUSTICE

Notice of Lodging of Proposed Partial Consent Decree Under the Comprehensive Environmental Response, Compensation, and Liability Act

On January 17, 2025, the Department of Justice lodged a proposed Partial Consent Decree with the United States District Court for the District of Columbia in the lawsuit entitled Government of Guam v. United States, Civil Action No. 1:17-cv-2487.

The Government of Guam (“Guam”) filed a lawsuit under Section 107 of the Comprehensive Environmental Response, Compensation, and Liability Act (“CERCLA”), 42 U.S.C. 9607, against the United States for recovery of past and future costs that Guam has incurred or will incur for response actions taken at or in connection with the Ordot Dump Superfund Site (“Site”), which was the only civilian municipal waste disposal area for the island of Guam from the early 1950s until September 2011. The United States filed a counterclaim under CERCLA Section 107 seeking to recover past costs incurred by the United States in responding to the release of hazardous substances at the Site and a declaratory judgment for entitlement to future costs. The proposed Partial Consent Decree requires Guam to pay $3.9 million plus $17,745.53 of accrued interest to resolve the United States' claims for response costs incurred on or before August 10, 2022. The United States' claims for response costs incurred or to be incurred after August 10, 2022 remain to be resolved in the lawsuit. Guam's CERCLA claims against the United States were previously resolved in Consent Decrees entered by the Court on September 25, 2023, and October 2, 2024.

The publication of this notice opens a period for public comment on the proposed Partial Consent Decree. Comments should be addressed to the Assistant Attorney General, Environment and Natural Resources Division, and should refer to Government of Guam v. United States, D.J. Ref. No. 90-5-1-1-06658/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611

Any comments submitted in writing may be filed by the United States in whole or in part on the public court docket without notice to the commenter.

During the public comment period, the proposed Partial Consent Decree may be examined and downloaded at this website: https://www.justice.gov/enrd/consent-decrees. If you require assistance accessing the proposed Partial Consent Decree you may request assistance by email or by mail to the addresses provided above for submitting comments.

Scott Bauer,
Assistant Section Chief, Environmental Enforcement Section, Environment and Natural Resources Division.

[FR Doc. 2025-01943 Filed 1-29-25; 8:45 am]

BILLING CODE 4410-15-P